NATIONAL CREDIT UNION ADMINISTRATION

Submission from OMB Review; Request for Comments

AGENCY: National Credit Union Administration (NCUA).

ACTION: Notice of submission to the Office of Management and Budget.

SUMMARY: The National Credit Union Administration (NCUA), as part of a continuing effort to reduce paperwork and respondent burden, invites the general public and other Federal agencies to comment on the following extension of a currently approved collection, as required by the Paperwork Reduction Act of 1995.

DATES: Written comments should be received on or before August 4, 2023 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Mahala Vixamar at 703-518-6540, emailing PRAComments@ncua.gov, or viewing the entire information collection request at www.reginfo.gov.

SUPPLEMENTARY INFORMATION:

OMB Number: 3133-0135.

Title: Authorization Agreement for Electronic Funds Transfers Payments.

Type of Review: Extension of a previously approved collection.

Abstract: NCUA is required under the Debt Collection Improvement Act of 1996 to issue payments to credit unions electronically. NCUA needs information to maintain up-to-date and accurate electronic payment data for new and existing credit unions. NCUA used the information on the Authorization Agreement for Electronic Funds Transfer Payments form to update their electronic routing and transit database to enable transmittal of funds and payments.

Affected Public: Private Sector: Not-for-profit institutions.

Estimated No. of Respondents: 100.

Estimated No. of Responses per Respondent: 1.

Estimated Total Annual Responses: 100.

Estimated Burden Hours per Response: 0.25.

Estimated Total Annual Burden Hours: 25.

OMB Number: 3133-0151.

Type of Review: Extension of a previously approved collection.

Title: Leasing—12 CFR part 714.

Abstract: NCUA requires the financially responsible party to guarantee the excess when the residual value of a lease will exceed twenty-five percent of the original cost of the leased property. The federal credit union must obtain and have on file financial documentation demonstrating that the guarantor has the resources to meet the guarantee. If a manufacturer is involved, the federal credit union must review financial statements for the period that would establish a reasonable financial trend. If an insurance company is involved, it must have a major company rating of at least a B plus. The federal credit union will use the information as part of the risk assessment process to analyze and evaluate the financial capabilities and resources of a party that guarantees the residual value used in a leasing arrangement.

Affected Public: Private Sector: Not-for-profit institutions.

Estimated No. of Respondents: 83.

Estimated No. of Responses per Respondent: 5.

Estimated Total Annual Responses: 415.

Estimated Hours per Response: 2.

Estimated Total Annual Burden Hours: 830.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2023-14128 Filed 7-3-23; 8:45 am]

BILLING CODE 7535-01-P